DEPARTMENT OF TRANSPORTATION

Office of the Secretary

Notice of Applications for Certificates of Public Convenience and Necessity and Foreign Air Carrier Permits Filed Under Subpart Q During the Week Ending December 1, 2000

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8413.

Date Filed: November 28, 2000.

Due Date for Answers, Conforming Applications, or Motion to Modify Scope: December 19, 2000.

Description: Application of United Air Lines, Inc. pursuant to 49 U.S.C. 41101, 14 CFR parts 201, 302 and subpart B, applies for renewal to the extent necessary, of its Certificate of Public Convenience and Necessity for Route 588 authorizing services between Chicago, Illinois and Tokyo, Japan.

Docket Number: OST-2000-8437.

Date Filed: November 29, 2000.

Due Date for Answers, Conforming Applications, or Motion to Modify Scope: December 20, 2000.

Description: Application of Aerotransporte de Carga Union, S.A. de C.V. pursuant to 49 U.S.C. 41302, parts 211, 302 and subpart B, requests a foreign air carrier permit authorizing it to engage in charter foreign air transportation of property and mail between a point or points in Mexico, on the one hand, and a point or points in the United States, on the other hand.

Docket Number: OST-2000-8445.

Date Filed: November 30, 2000.

Due Date for Answers, Conforming Applications, or Motion to Modify Scope: December 21, 2000.

Description: Application of Polar Air Cargo, Inc. pursuant to 49 U.S.C. 41101, 14 CFR parts 201, 302 and subpart B, applies for renewal of its certificate of public convenience and necessity for Route 696 authorizing services between the U.S. and Brazil.

Docket Number: OST-2000-8447.

Date Filed: December 1, 2000.

Due Date for Answers, Conforming Applications, or Motion to Modify Scope: December 22, 2000.

Description: Application of Santa Barbara Airlines, C.A. pursuant to 49 U.S.C. 41305, 14 CFR part 211, and subpart B, applies for a Foreign Air Carrier permit to be issued under 49 U.S.C. 41302 authorizing it to engage in scheduled foreign air transportation of passengers, property and mail between a point or points in Venezuela and a point or points in the United States of America, and in on and off route charter services as may be authorized pursuant to part 212 of the Department's regulations.

Dorothy Y. Beard,
Federal Register Liaison.

[FR Doc. 01-2461 Filed 1-26-01; 8:45 am]

BILLING CODE 4910-62-P